NUCLEAR REGULATORY COMMISSION

[Docket No. 50-116]

Iowa State University, UTR-10 Research Reactor; Environmental Assessment and Finding of No Significant Impact

The U.S. Nuclear Regulatory Commission (the Commission) is considering the issuance of a license amendment to Facility License No. R-59, issued to Iowa State University (ISU or the licensee), that would allow decommissioning of the UTR-10 Research Reactor located on the west edge of the main campus of the ISU, in Ames, Iowa.

Environmental Assessment

Identification of the Proposed Action

By application dated January 6, 1999, the licensee submitted a decommissioning plan in accordance with 10 CFR 50.82(b), in order to dismantle the 10-kilowatt (thermal) ISU UTR-10 Argonaut Research Reactor, to dispose of its component parts and radioactive material, and to decontaminate the facility in accordance with the proposed dismantling plan to meet the Commission's unrestricted release criteria. After the Commission verifies that the release criteria have been met, Facility License No. R-59 would be terminated. The licensee submitted an Environmental Report, dated January 4, 1999, that addresses the estimated environmental impacts resulting from decommissioning the UTR-10 reactor.

ISU ceased operating the reactor in May 1998. All the reactor fuel has been removed from the facility.

A “Notice of Application for Decommissioning Amendment, Iowa State University UTR-10 Research Reactor” was published in the Federal Register on January 25, 1999, 64 FR 3725. A “Notice and Solicitation of Comments Pursuant to 10 CFR 20.1405 and 10 CFR 50.82(b)(5) Concerning Proposed Action to Decommission Iowa State University UTR-10 Research Reactor” was published in the Federal Register on February 12, 1999, 64 FR 7214, and in the Ames, Iowa daily newspaper, The Tribune, on February 19, 1999. There were no comments.

Need for the Proposed Action

The proposed action is necessary because of ISU's decision to cease operations permanently. As specified in 10 CFR 50.82, any licensee may apply to the Nuclear Regulatory Commission for authority to surrender a license voluntarily and to decommission the affected facility. Further, 10 CFR 51.53(d) stipulates that each applicant for a license amendment to authorize decommissioning of a production or utilization facility shall submit with its application an environmental report that reflects any new information or significant environmental change associated with the proposed decommissioning activities. ISU is planning to use the area that would be released for other academic purposes.

Environmental Impact of the Proposed Action

All decontamination will be performed by trained personnel in accordance with previously reviewed procedures, and will be overseen by experienced health physics staff. Solid and liquid waste will be removed from the facility and managed in accordance with NRC requirements. The operations are calculated to result in a total occupational radiation exposure of 2.4 person-rem. Radiation exposure to the general public during decommissioning is expected to be zero. This will be accomplished by keeping the public at a safe distance and by eliminating effluent releases during decommissioning.

Occupational and public exposure may result from offsite disposal of the low-level residual radioactive material from the ISU. The handling, storage, and shipment of this radioactive material are to meet the requirements of 10 CFR 20.2006, and “Transfer for Disposal and Manifest,” 49 CFR parts 100-177, “Transportation of Hazardous Materials.” The proposed low-level radioactive waste facility (LLRW) has the licenses and permits to accept and dispose LLRW from reactor decommissioning projects. The materials that are classified LLRW will be packaged and shipped from ISU directly to this facility for disposal.

The NRC Final Rule on License Termination, 10 CFR 20.1402, provides radiological criteria for release of a site for unrestricted use. Release criteria for unrestricted use is a maximum Total Effective Dose Equivalent (TEDE) of 25 mrem per year from residual radioactivity above background. Application of As Low As Reasonably Achievable (ALARA) is also a requirement. The results of the final survey will be used to demonstrate that the predicted dose to a member of the public from any residual activity does not exceed the 25 mrem per year dose limit.

All liquid waste that is generated during the decommissioning activities will be collected in barrels and disposed of in accordance with state and Federal guidelines. All decommissioning activities will be carried out within the Nuclear Engineering Laboratory's confinement boundary. Additional containment measures will be taken as necessary to minimize the spread of contamination within the confinement boundary. These measures will include wood framing covered with plastic and low volume water misting. Airborne releases of radioactive materials are not expected. Dust production will be minimized by low volume water mist at points where dust is produced.

Based on the review of the specific proposed activities associated with the dismantling and decontamination of the ISU facility, the staff has determined that the proposed action will not increase the probability or consequences of accidents, no changes are being made in the types of any effluents that may be released off site, and there is no significant increase in occupational or public radiation exposure. Therefore, there are no significant radiological environmental impacts associated with the proposed action.

With regard to potential non-radiological impacts, the proposed action does not involve any historic sites. It does not affect non-radiological plant effluents and has no other environmental impact. Therefore, there are no significant non-radiological environmental impacts associated with the proposed action.

Accordingly, the Commission concludes that there are no significant environmental impacts associated with the proposed action.

Alternatives to the Proposed Action

The four alternatives for disposition of the UTR-10 reactor are: DECON, SAFSTOR, ENTOMB, and no action. These alternatives are defined as follows:

DECON is the alternative in which the equipment, structures, and portions of the facility containing radioactive contaminants are removed or decontaminated to a level that permits the property to be released for unrestricted use after cessation of operations. SAFSTOR is the alternative in which the nuclear facility is placed and maintained in a condition that allows the nuclear facility to be safely stored and subsequently decontaminated (deferred decontamination) to levels that permit release for unrestricted use. ENTOMB is the alternative in which radioactive contaminants are encased in a structurally long-lived material, such as concrete; the entombed structure is appropriately maintained; and continued surveillance is carried out until the radioactivity decays to a level permitting release of the property for unrestricted use. The no-action alternative would leave the facility in its present configuration. However, the regulations in 10 CFR 50.82(b) only allow a limited time for this condition to exist.

The radiological impacts of SAFSTOR would be less because of radioactive decay prior to DECON. The ENTOMB option would result in lower radiological exposure but continued use of resources. ISU has determined that the proposed action (DECON) is the most efficient use of the existing facility, since it proposes to use the space that will become available for other academic purposes. The SAFSTOR, ENTOMB, and no-action alternatives would entail continued surveillance and physical security measures to be in place and continued monitoring by licensee personnel.

Alternative Use of Resources

This action does not involve the use of any resources not previously considered in the Environmental Report submitted on January 4, 1999, and the Decommissioning Report submitted on January 6, 1999, for the UTR-10 reactor.

Agencies and Persons Contacted

In accordance with its stated policy, on March 7, 2000, the staff consulted with the Iowa State official, Donald A. Flater, Chief, Bureau of Radiological Health, Iowa Department of Public Health, regarding the environmental impact of the proposed action. The state official had no comments.

Finding of No Significant Impact

On the basis of the environmental assessment, the Commission concludes that the proposed action will not have a significant effect on the quality of the human environment. Accordingly, the NRC has determined not to prepare an environmental impact statement for the proposed action.

For further details with respect to the proposed action, see the licensee's letters dated January 4, and 6, 1999, which are available for public inspection at the NRC's Public Document Room, the Gelman Building, 2120 L Street, NW, Washington, DC 20555. Publicly available records will be accessible electronically from the ADAMS Public Library component on the NRC Web site, http://www.nrc.gov (the Electronic Reading Room).

Dated at Rockville, Maryland, this 26th day of April 2000.
For the Nuclear Regulatory Commission.
Ledyard B. Marsh,
Branch Chief, Events Assessment, Generic Communications and Non-Power Reactors Branch, Division of Regulatory Improvement Programs, Office of Nuclear Reactor Regulation.

[FR Doc. 00-11103 Filed 5-3-00; 8:45 am]

BILLING CODE 7590-01-P